DEPARTMENT OF THE INTERIOR

Bureau of Reclamation

Agency Information Collection; Proposed Revisions to a Currently Approved Information Collection; Comment Request

AGENCY: Bureau of Reclamation, Interior.

ACTION: Notice of renewal of a currently approved information collection (OMB No. 1006-0002).

SUMMARY: In accordance with the Paperwork Reduction Act of 1995, the Bureau of Reclamation (Reclamation, we) intends to submit a request for renewal (with revisions) of an existing approved information collection to the Office of Management and Budget (OMB): Recreation Use Data Report, OMB Control Number 1006-0002. As part of its continuing effort to reduce paperwork and respondent burdens, Reclamation invites State and local governmental entities that manage recreation sites at Reclamation projects; concessionaires, subconcessionaires, and not-for-profit organizations who operate concessions on Reclamation lands; and the general public, to comment on this information collection.

DATES: We must receive your written comments on or before May 4, 2009.

ADDRESSES: You may send written comments to the Bureau of Reclamation, Attention: 84-53000, P.O. Box 25007, Denver, CO 80225-0007. You may request copies of the proposed revised application form by writing to the above address or by contacting Darrell Welch at (303) 445-2711 or dwelch@do.usbr.gov.

FOR FURTHER INFORMATION CONTACT: Darrell Welch at (303) 445-2711.

SUPPLEMENTARY INFORMATION:

I. Abstract

Reclamation collects Reclamation-wide recreation and concession information (1) in support of existing public laws including the Land and Water Conservation Fund Act (Pub. L. 88-578), the Federal Water Project Recreation Act (Pub. L. 89-72), and the Federal Lands Recreation Enhancement Act (Pub. L. 108-477); and (2) to fulfill reports to the President and the Congress. This collection of information allows Reclamation to (1) Meet the requirements of the Government Performance and Results Act (GPRA); (2) fulfill congressional and financial reporting requirements; and (3) support specific information required by Federal legislation and the Department of the Interior's GPRA-based strategic plan. Collected information will permit relevant program assessments of resources managed by Reclamation, its recreation managing partners, and/or concessionaires for the purpose of implementing Reclamation's mission to manage, develop, and protect water and related resources in an environmentally and economically sound manner in the interest of the American people. Specifically, the collected information provides Reclamation with the ability to (1) Evaluate program and management effectiveness pertaining to existing recreation and concessionaire resources and facilities; (2) assist in prioritizing Reclamation funding; and (3) validate effective public use of managed recreation resources located on Reclamation project lands in the 17 Western States.

II. Changes to the Recreation Use Data Report Forms Parts I and II

Reclamation slightly modified Parts I and II forms by reformatting each by (1) Rearranging the questions in a more logical sequence; (2) deleting non-relevant questions; and (3) adding questions that specifically address the recreation program needs of Reclamation. Note that some of the questions asked of the concessionaires in Part II, Form 7-2535 were deleted because some of the information originally being collected from the concessionaires was redundant to the information already being collected from Reclamation's non-Federal partners in Part I, Form 7-2534. In addition, the title to Part I, Form 7-2535 was changed from Managing Partners to Non-Federal Managing Partners to more accurately reflect that Reclamation is only collecting information from our non-Federal partners and not our existing Federal partners.

III. Data

OMB Control Number: 1006-0002.

Title: Recreation Use Data Report (Form No. 7-2534—Part I, Non-Federal Managing Partners and Form No. 7-2535—Part II, Concessionaires).

Form Numbers: 7-2534 and 7-2535.

Frequency: Annually.

Respondents: Non-Federal government entities who manage the recreation resource on Reclamation land and waterbodies.

Estimated Annual Total Number of Respondents: 282.

Estimated Number of Responses per Respondent: 1.

Estimated Total Number of Annual Responses: 282.

Estimated Total Annual Burden on Respondents: 142 hours.

Estimated Completion Time per Respondent: 30 minutes.

The table below provides the necessary detail on how the total number of annual burden hours was arrived at for both forms. The total annual hour burden has been rounded up.

Form No. | Burden estimate per form (in minutes) | Total number of respondents | Total annual hour burden
7-2534 (Part 1, Non-Federal Managing Partners) | 30 | 167 | 84
7-2535 (Part 2, Concessionaires) | 30 | 115 | 58
Total Burden Hours |  |  | 142

IV. Request for Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

We will summarize all comments received regarding this notice. We will publish that summary in the Federal Register when the information collection request is submitted to OMB for review and approval.

Before including your address, telephone number, e-mail address, or other personal identifying information in your comment, you should be aware that your entire comment (including your personal identifying information) may be made publicly available at any time. While you can ask us in your comment to withhold your personal identifying information from public review, we cannot guarantee that we will be able to do so.

Dated: February 18, 2009.
Roseann Gonzales,
Policy and Program Services, Denver Office.

[FR Doc. E9-4730 Filed 3-4-09; 8:45 am]

BILLING CODE 4310-MN-P